DEPARTMENT OF THE INTERIOR

National Park Service

[N6481; NPS-WASO-NAGPRA-NPS0040989; PPWOCRADN0-PCU00RP14.R50000]

Notice of Intended Repatriation: Abbe Museum, Bar Harbor, ME

AGENCY: National Park Service, Interior.

ACTION: Notice.

SUMMARY: In accordance with the Native American Graves Protection and Repatriation Act (NAGPRA), the Abbe Museum intends to repatriate certain cultural items that meet the definition of unassociated funerary objects and that have a cultural affiliation with the Indian Tribes or Native Hawaiian organizations in this notice.

DATES: Repatriation of the cultural items in this notice may occur on or after October 14, 2025.

ADDRESSES: Send additional, written requests for repatriation of the cultural items in this notice to Aaron F. Miller, Curator of Exhibits & Collections, Abbe Museum, P.O. Box 286, Bar Harbor, ME 04609, email aaron@abbemuseum.org.

SUPPLEMENTARY INFORMATION: This notice is published as part of the National Park Service's administrative responsibilities under NAGPRA. The determinations in this notice are the sole responsibility of the Abbe Museum, and additional information on the determinations in this notice, including the results of consultation, can be found in the summary or related records. The National Park Service is not responsible for the determinations in this notice.

Abstract of Information Available

A total of 16 cultural items have been requested for repatriation. The 16 unassociated funerary objects are two red ochre samples, three charcoal samples; one straw and pyrite sample; three hide and hair samples; two hair samples; one pyrite, hide, and hair sample; one limonite with fabric sample, one hair with insect pupa from pyrite, one hide and hair sample from a fire kit, and one stone plummet.

Fifteen of the unassociated funerary objects were removed from the Hartford Cemetery site in Orland, Maine. These materials were likely excavated by Warren K. Moorehead in the late 19th century and donated to the R.S. Peabody Museum in Andover, MA. The Peabody transferred the collection to the Bangor Historical Society in the first quarter of the 20th century and they were subsequently transferred to the Abbe Museum in 1997. Likely around that same time, the 15 objects were part of an unrecorded loan to a University of Maine, Orono professor. The materials were rediscovered in 2025 and returned to the Abbe that same year.

The stone plummet was donated to the Abbe Museum by Walter B. Smith in 1927 and was recorded in the original ledger book as coming from a “Red Paint Cemetery in Blue Hill, ME”. The unassociated funerary object was returned to the Museum in 2024 as part of an undocumented loan and had been previously listed as missing from the collections.

Additional materials from these two sites were repatriated by the Abbe Museum in 2020 to the The Wabanaki Tribes of Maine Intertribal Repatriation Committee representing the Houlton Band of Maliseet Indians, Mi'kmaq Nation, Passamaquoddy Tribe, and Penobscot Nation (see Federal Register (85 FR 335), January 3, 2020).

Determinations

The Abbe Museum has determined that:

• The 16 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Houlton Band of Maliseet Indians; Mi'kmaq Nation (previously listed as Aroostook Band of Micmacs); Passamaquoddy Tribe; and the Penobscot Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 14, 2025. If competing requests for repatriation are received, the Abbe Museum must determine the most appropriate requestor prior to repatriation. Requests for joint repatriation of the cultural items are considered a single request and not competing requests. The Abbe Museum is responsible for sending a copy of this notice to the Indian Tribes and Native Hawaiian organizations identified in this notice and to any other consulting parties.

Authority: Native American Graves Protection and Repatriation Act, 25 U.S.C. 3004 and the implementing regulations, 43 CFR 10.9.

Dated: August 21, 2025.
Melanie O'Brien,
Manager, National NAGPRA Program.

[FR Doc. 2025-17492 Filed 9-10-25; 8:45 am]

BILLING CODE 4312-52-P